DEPARTMENT OF HEALTH AND HUMAN SERVICES

Centers for Medicare & Medicaid Services

Privacy Act of 1974; Deletion of Systems of Records

AGENCY: Department of Health and Human Services (HHS), Centers for Medicare & Medicaid Services (CMS) (formerly the Health Care Financing Administration).

ACTION: Notice to delete 12 systems of records.

SUMMARY: CMS proposes to delete 12 systems of records from its inventory subject to the Privacy Act of 1974 (5 U.S.C. 552a), as amended.

EFFECTIVE DATE: The deletions will be effective on January 15, 2002.

ADDRESSES: The public should address comments to: Director, Division of Data Liaison and Distribution, CMS, Room N2-04-27, 7500 Security Boulevard, Baltimore, Maryland 21244-1850. The telephone number is (410) 786-3573. Comments received will be available for review at this location, by appointment, during regular business hours, Monday through Friday from 9 a.m.-3 p.m., eastern standard time.

SUPPLEMENTARY INFORMATION: CMS is reorganizing its databases because of the amount of information it collects to administer the Medicare and Medicaid programs. With this reorganization of databases, CMS is deleting the systems of records listed below. Retention and destruction of the data contained in these systems will follow the schedules listed in the system notice. CMS proposes to delete the following systems.

Systems to be Deleted:

System No. 09-70-0504, “Beneficiary Part A and B Uncollectible Overpayment File;”

System No. 09-70-0508, “Reconsideration and Hearing Cases Files (Part A) Hospital Insurance Program;”

System No. 09-70-0512, “Review and Fair Hearing Case Files—Supplementary Medical Insurance Program;”

System No. 09-70-0516, “Medicare Physician Supplier Master File;”

System No. 09-70-0518, “Medicare Clinic Physician Supplier Master File;”

System No. 09-70-0522, “Billing and Collection Master Record System;”

System No. 09-70-1511, “Physical Therapists in Independent Practice (Individuals);”

System No. 09-70-1512, “Peer Review Organizations Data Management Information System;”

System No. 09-70-1516, “Uniform Clinical Data Set;”

System No. 09-70-2003, “Completion of State Medicaid Quality Control Reviews;”

System No. 09-70-2006, “Income and Eligibility Verification for Medicaid Eligibility Quality Control Reviews;”

System No. 09-70-9001, “Health Care Financing Administration Correspondence and Assignment Tracking and Control System;”

Dated: January 14, 2002.
Thomas A. Scully,
Administrator, Centers for Medicare & Medicaid Services.

[FR Doc. 02-1525 Filed 1-22-02; 8:45 am]

BILLING CODE 4120-03-P